DEPARTMENT OF TRANSPORTATION

Federal Railroad Administration

[Docket No. FRA-2019-0004-N-22]

Proposed Agency Information Collection Activities; Comment Request

AGENCY: Federal Railroad Administration (FRA), U.S. Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. The ICRs describe the information collections and their expected burden. On October 7, 2019, FRA published a notice providing a 60-day period for public comment on the ICRs.

DATES: Interested persons are invited to submit comments on or before January 21, 2020.

ADDRESSES: Submit written comments on the ICRs to the Office of Information and Regulatory Affairs, Office of Management and Budget, 725 17th Street NW, Washington, DC 20503, Attention: FRA Desk Officer. Comments may also be sent via email to OMB at the following address: oira_submissions@omb.eop.gov.

FOR FURTHER INFORMATION CONTACT: Ms. Hodan Wells, Information Collection Clearance Officer, Office of Railroad Safety, Federal Railroad Administration, 1200 New Jersey Avenue SE, Washington, DC 20590, (telephone: (202) 493-0440) or Ms. Kim Toone, Information Collection Clearance Officer, Office of Information Technology, Federal Railroad Administration, 1200 New Jersey Avenue SE, Washington, DC 20590, (telephone: (202) 493-6132).

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On October 7, 2019, FRA published a 60-day notice in the Federal Register soliciting public comment on the ICRs for which it is now seeking OMB approval. See 84 FR 53556. FRA has received no comments in response to this notice.

Before OMB decides whether to approve these proposed collections of information, it must provide 30-days' notice for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Remotely Controlled Switch Operations.

OMB Control Number: 2130-0516.

Abstract: Sections 49 CFR 218.30 and 218.77 require remotely controlled switches be properly lined to protect workers who are vulnerable to being struck by moving cars as they inspect or service rolling equipment on track or occupy camp cars. Creating required notifications promotes safety by minimizing the mental lapses of workers who are simultaneously handling several tasks. These sections require the operator of remotely controlled switches to maintain a record of each blue signal protection request for 15 days. Operators of remotely controlled switches use the information as a record documenting blue signal protection of workers or camp cars. This record also serves as a valuable resource for railroad supervisors and FRA and State inspectors monitoring regulatory compliance.

Type of Request: Extension with change (revised estimates) of a currently approved collection.

Affected Public: Businesses.

Form(s): N/A.

Respondent Universe: 53 railroads.

Frequency of Submission: On occasion.

Total Estimated Annual Responses: 1,934,650.

Total Estimated Annual Burden: 24,183 hours.

Total Estimated Annual Burden Hour Dollar Cost Equivalent: $1,378,431.

Title: Bad Order, Home Shop Card, and Stenciling Reporting Mark.

OMB Control Number: 2130-0519.

Abstract: Under 49 CFR part 215, railroads are required to inspect freight cars placed in service and take remedial action when defects are identified. A railroad freight car with a part 215 defect may be moved to another location for repair only after the railroad has complied with the process under 49 CFR 215.9. Section 215.9 requires railroads to affix a “bad order” tag describing each defect to each side of the freight car. It is imperative that a defective freight car be tagged “bad order” so it can be readily identified and moved to another location for repair purposes only, and so that the maximum speed and other restrictions necessary for safely conducting the movement are known. At the repair location, the “bad order” tag serves as a notification of the defective condition of the freight car. Railroads must retain each tag for 90 days to verify that proper repairs were made at the designated location. When inspecting a freight car, FRA and State inspectors review all pertinent records to determine railroads' compliance with the movement restrictions of 49 CFR 215.9.

Additionally, section 215.301 ¹ requires railroads and private car owners to stencil or otherwise display identification marks on freight cars. FRA uses the identification marks to determine the railroads affected, the number and type of cars involved, the commodities being carried, and the territorial and speed limits within which the cars will be operated. FRA reviews this information to determine if the freight car is safe to operate and if the operation qualifies for dedicated service and is excluded from the requirements of part 215. Railroads use the required information to provide identification and control so that dedicated cars remain in the prescribed service.

¹ Burdens associated with section 215.301 were formerly covered under OMB Control Number 2130-0520.

Type of Request: Extension with change (revised estimates) of a currently approved collection.

Affected Public: Businesses (railroads).

Form(s): N/A.

Respondent Universe: 752 railroads.

Frequency of Submission: On occasion.

Total Estimated Annual Responses: 300,000.

Total Estimated Annual Burden: 38,250 hours.

Total Estimated Annual Burden Hour Dollar Cost Equivalent: $2,187,900.

Title: Bridge Worker Safety Rules.

OMB Control Number: 2130-0535.

Abstract: Subpart B of 49 CFR part 214 establishes minimum workplace safety standards for railroad employees as they apply to railroad bridges. Specifically, 49 CFR 214.105(c) establishes standards and practices for safety net systems. Safety nets and net installations must be drop-tested at the job site after initial installation and before being used as a fall-protection system, after major repairs, and at 6-month intervals if left at one site. If a drop-test is not feasible and is not performed, then the railroad or railroad contractor, or a designated certified person, must provide written certification the net complies with the safety standards of 49 CFR 214.105. FRA and State inspectors use the information to enforce Federal regulations. The information maintained at the job site promotes safe bridge worker practices.

Type of Request: Extension with change (revised estimates) of a currently approved collection.

Affected Public: Businesses (railroads).

Form(s): N/A.

Respondent Universe: 746 railroads.

Frequency of Submission: On occasion.

Total Estimated Annual Responses: 3.

Total Estimated Annual Burden: 15 minutes.

Total Estimated Annual Burden Hour Dollar Cost Equivalent: $19.

Under 44 U.S.C. 3507(a) and 5 CFR 1320.5(b) and 1320.8(b)(3)(vi), FRA informs all interested parties that it may not conduct or sponsor, and a respondent is not required to respond to, a collection of information unless it displays a currently valid OMB control number.

Authority: 44 U.S.C. 3501-3520.

Brett A. Jortland,
Acting Chief Counsel.

[FR Doc. 2019-27462 Filed 12-19-19; 8:45 am]

BILLING CODE 4910-06-P